DEPARTMENT OF HOMELAND SECURITY

Coast Guard

33 CFR Part 165

[Docket No. USCG-2012-0199]

Safety Zone; Chicago Harbor, Navy Pier Southeast, Chicago, IL

AGENCY: Coast Guard, DHS.

ACTION: Notice of enforcement of regulation.

SUMMARY: The Coast Guard will enforce the Navy Pier Southeast Safety Zone in Chicago Harbor during specified periods from July 3, 2013, through August 31, 2013. This action is necessary and intended to ensure safety of life on the navigable waters of the United States immediately prior to, during, and immediately after fireworks events. Enforcement of this safety zone will activate restrictions and control movement of vessels in a specified area immediately prior to, during, and immediately after various fireworks events. During the enforcement period, no person or vessel may enter the safety zone without permission of the Captain of the Port, Lake Michigan.

DATES: The regulations in 33 CFR 165.931 will be enforced at the specified dates and times listed in the SUPPLEMENTARY INFORMATION section that follows.

FOR FURTHER INFORMATION CONTACT: If you have questions on this notice, call or email MST1 Joseph McCollum, Prevention Department, Coast Guard Sector Lake Michigan, Milwaukee, WI at 414-747-7148, email Joseph.P.Mccollum@uscg.mil.

SUPPLEMENTARY INFORMATION: The Coast Guard will enforce the Safety Zone; Chicago Harbor, Navy Pier Southeast, Chicago, IL listed in 33 CFR 165.931 for the following events:

(1) Navy Pier Fireworks with times and dates as follows:

July 17, 2013 from 9:15 p.m. through 9:45 p.m.;

July 20, 2013 from 10:00 p.m. through 10:30 p.m.;

July 24, 2013 from 9:15 p.m. through 9:45 p.m.;

July 27, 2013 from 10:00 p.m. through 10:30 p.m.;

July 31, 2013 from 9:15 p.m. through 9:45 p.m.;

August 3, 2013 from 10:00 p.m. through 10:30 p.m.;

August 7, 2013 from 9:15 p.m. through 9:45 p.m.;

August 8, 2013 from 9:15 p.m. through 9:45 p.m.;

August 9, 2013 from 10:00 p.m. through 10:30 p.m.;

August 10, 2013 from 10:00 p.m. through 10:30 p.m.;

August 14, 2013 from 9:15 p.m. through 9:45 p.m.;

August 17, 2013 from 10:00 p.m. through 10:30 p.m.;

August 21, 2013 from 9:15 p.m. through 9:45 p.m.;

August 24, 2013 from 10:00 p.m. through 10:30 p.m.;

August 28, 2013 from 9:15 p.m. through 9:45 p.m.;

August 31, 2013 from 10:00 p.m. through 10:30 p.m.

This safety zone encompasses the waters of Lake Michigan within Chicago Harbor between the east end of the Chicago Lock guide wall and the Chicago Harbor breakwater beginning at 41°53′24″ N, 087°35′26″ W; then south to 41°53′09″ N, 087°35′26″ W; then west to 41°53′09″ N, 087°36′09″ W; then north to 41°53′24″ N, 087°36′09″ W; then back to the point of origin. All vessels must obtain permission from the Captain of the Port, Lake Michigan, or his or her on-scene representative to enter, move within or exit the safety zone. Vessels and persons granted permission to enter the safety zone shall obey all lawful orders or directions of the Captain of the Port, Lake Michigan, or his or her on-scene representative.

This notice is issued under authority of 33 CFR 165.931 and 5 U.S.C. 552(a). In addition to this notice in the Federal Register, the Coast Guard will provide the maritime community with advance notification of these enforcement periods via broadcast Notice to Mariners or Local Notice to Mariners. If the Captain of the Port, Lake Michigan, determines that the safety zone need not be enforced for the full duration stated in this notice, he or she may use a Broadcast Notice to Mariners to grant general permission to enter the safety zone. The Captain of the Port, Lake Michigan, or his or her on-scene representative may be contacted via VHF Channel 16.

Dated: July 1, 2013.
M.W. Sibley,
Captain, U.S. Coast Guard, Captain of the Port, Lake Michigan.

[FR Doc. 2013-17104 Filed 7-16-13; 8:45 am]

BILLING CODE 9110-04-P